COMMISSION ON OCEAN POLICY

Public Meeting

AGENCY: Commission on Ocean Policy.

ACTION: Notice.

SUMMARY: The U.S. Commission on Ocean Policy will hold its ninth and final regional meeting, the Commission's eleventh public meeting, to hear and discuss issues of concern to the Great Lakes region.

DATES: Public meetings will be held Tuesday, September 24, 2002 from 8:30 a.m. to 6 p.m. and Wednesday, September 25, 2002 from 8:30 a.m. to 5 p.m.

ADDRESSES: The meeting location is the Phelps Auditorium, John G. Shedd Aquarium, 1200 South Lake Shore Drive, Chicago, IL 60605. (Please use the Group Entrance located on the South side of the John G. Shedd Aquarium.)

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Public Law 106-256, Section 3(e)(1)(E)). The agenda will include presentations by invited speakers representing local and regional government agencies and non-governmental organizations, comments from the public and any required administrative discussions and executive sessions. Invited speakers and members of the public are requested to submit their statements for the record electronically by Monday, September 16, 2002 to the meeting Point of Contact. A public comment period is scheduled for Wednesday, September 25, 2002. The meeting agenda, including the specific time for the public comment period, and guidelines for making public comments will be posted on the Commission's Web site at http://www.oceancommission.gov prior to the meeting.

Dated: August 13, 2002.
Thomas R. Kitsos,
Executive Director, U.S. Commission on Ocean Policy.

[FR Doc. 02-21049 Filed 8-19-02; 8:45 am]

BILLING CODE 6820-WM-P